RAILROAD RETIREMENT BOARD

Sunshine Act Meetings

TIME AND DATE: 1 p.m., April 19, 2021.

PLACE: Meeting will be held by teleconference.

STATUS: Closed.

MATTERS TO BE CONSIDERED: (1) Litigation Matter.

CONTACT PERSON FOR MORE INFORMATION: Stephanie Hillyard, Secretary to the Board, Phone No. 312-751-4920.

Authority: 5 U.S.C. 552b.

Dated: April 16, 2021.
Stephanie Hillyard,
Secretary to the Board.

[FR Doc. 2021-08277 Filed 4-16-21; 4:15 pm]

BILLING CODE 7905-01-P